DEPARTMENT OF COMMERCE

National Oceanic and Atmospheric Administration

[RTID 0648-XA237]

Endangered Species; File Nos. 21111, 23683, and 23851

AGENCY: National Marine Fisheries Service (NMFS), National Oceanic and Atmospheric Administration (NOAA), Commerce.

ACTION: Notice; receipt of applications for permits and a permit modification.

SUMMARY: Notice is hereby given that three applicants have applied in due form for a permit or permit modification to take green (Chelonia mydas), hawksbill (Eretmochelys imbricata), Kemp's ridley (Lepidochelys kempii), leatherback (Dermochelys coriacea), loggerhead (Caretta caretta), and olive ridley (L. olivacea) sea turtles for purposes of scientific research.

DATES: Written, telefaxed, or email comments must be received on or before July 22, 2020.

ADDRESSES: Each application and related documents are available for review by selecting “Records Open for Public Comment” from the Features box on the Applications and Permits for Protected Species (APPS) home page, https://apps.nmfs.noaa.gov, and then selecting the applicable File No. from the list of available applications. These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Amy Hapeman or Erin Markin, (301) 427-8401.

SUPPLEMENTARY INFORMATION: The subject permits and permit modification are requested under the authority of the Endangered Species Act of 1973, as amended (16 U.S.C. 1531 et seq.) and the regulations governing the taking, importing, and exporting of endangered and threatened species (50 CFR parts 222-226).

File No. 21111-02: NMFS, Southwest Fisheries Science Center, 8901 La Jolla Shores Drive, La Jolla, California 92037, (Responsible Party: Robin LeRoux), proposes to modify Permit No. 21111-01. The permit, originally issued on February 15, 2018 (83 FR 13731, March 30, 2018), authorizes researchers to conduct long-term monitoring of leatherback sea turtles off the coasts of California, Oregon, and Washington. Researchers may conduct vessel-based research on leatherbacks including captures, observation, transmitter attachment, marking, measurements, imaging, and biological sampling. The permit holder requests authorization to (1) use a manned 'spotter' aircraft and unmanned aircraft system (UAS) to assist leatherback capture efforts, (2) increase the number of animals captured from 15 to 20 animals annually in line 1 of the take table, (3) attach an acoustic tag to animals to evaluate fine-scale leatherback movements and habitat use, (4) analyze the microbiome of collected cloacal and fecal samples to evaluate leatherback health and body condition, and (5) add personnel to conduct the request aerial methods. The permit is valid through September 30, 2027.

File No. 23683: Guam Division of Aquatic and Wildlife Resources, 163 Dairy Road, Mangilao, Guam 96913, (Responsible Party: Jay Gutierrez), proposes to obtain information on green and hawksbill sea turtle movement, distribution, abundance, genetics, and health status in waters around Guam. Up to 45 green and 10 hawksbill sea turtles would be captured by hand or tangle net, tagged (flipper, passive integrated transponder [PIT]), biologically sampled (skin), measured, weighed, and photographed/videoed, annually, prior to release. A subset of turtles may receive a satellite tag (epoxy attachment). The permit would be valid for 10 years from the date of issuance.

File No. 23851: Michael Arendt, South Carolina Department of Natural Resources, Marine Resources, 217 Fort Johnson Road, Charleston, South Carolina, proposed to assess the abundance, distribution, demographic structure, genetics, and health of green, Kemp's ridley, leatherback, loggerhead, and olive ridley sea turtles in waters off the coasts of South Carolina, Georgia, and northern Florida. Up to 3 green, 30 Kemp's ridley, 1 leatherback, 130 loggerhead, and 2 olive ridley sea turtles would be captured by trawl, tagged (flipper, PIT), biologically sampled (blood, lesion, scute), measured, weighed, and photographed/videoed, annually, prior to release. A subset of turtles may receive a satellite or acoustic tag (epoxy attachment). Up to 12 green, 1 Kemp's ridley, and 1 loggerhead sea turtles may be captured under another authority, tagged (flipper, PIT), biologically sampled (blood, lesion, scute), measured, weighed, photographed/videoed, and receive a satellite or acoustic tag (epoxy attachment), annually, prior to release. Unintentional mortality of one green, one Kemp's ridley, one leatherback, and two loggerhead sea turtles could happen over the life of the permit. The permit would be valid for up to 10 years from the date of issuance.

Dated: June 16, 2020.
Julia Marie Harrison,
Chief, Permits and Conservation Division, Office of Protected Resources, National Marine Fisheries Service.

[FR Doc. 2020-13358 Filed 6-19-20; 8:45 am]

BILLING CODE 3510-22-P